DEPARTMENT OF TRANSPORTATION

Federal Highway Administration

Notice of Final Federal Agency Actions on Proposed Highway in Ohio

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. 139(l)(1). The actions relate to a proposed highway project, U.S. Route 823 (the Portsmouth Bypass), from Lucasville in Scioto county to near Sciotodale in Scioto county in the State of Ohio. Those actions grant licenses, permits, and approvals for the project.

DATES: By this notice, the FHWA is advising the public of final agency actions subject to 23 U.S.C. 139(l)(1). A claim seeking judicial review of the Federal agency actions on the highway project will be barred unless the claim is filed on or before January 30, 2007. If the Federal law that authorizes judicial review of a claim provides a time period of less than 180 days for filing such claim, then that shorter time period still applies.

FOR FURTHER INFORMATION CONTACT: For FHWA: Mr. David Snyder, Environmental Program Manager, Federal Highway Administration, 200 North High Street, Columbus, Ohio 43215; telephone: (614) 280-6852; e-mail: David.Snyder@fhwa.dot.gov; FHWA Ohio Division Office's normal business hours are 8 a.m. to 4:30 p.m. (eastern time). For Ohio Department of Transportation: Mr. Tim Hill, Ohio Department of Transportation, 1980 West Broad Street, Columbus, OH 43223; telephone: (624) 644-0377.

SUPPLEMENTARY INFORMATION: Notice is hereby given that the FHWA and other Federal agencies have taken final agency actions by issuing licenses, permits, and approvals for the following highway project in the State of Ohio: U.S. Route 823 (the Portsmouth Bypass), from Lucasville in Scioto county to near Sciotodale in Scioto county in the State of Ohio. The project will be a 16 mile long, four-lane divided limited access highway. It will begin at U.S. Route 23 in Lucasville. It will then proceed in a southeasterly direction staying north of Clarktown, south of Minford, west of Rigrish Addition, and just west of Sciotodale. It will end near Sciotodale by tying back into the existing 4-lane divided U.S. Route 52 just east of SR140. The proposed highway will be on new alignment. The actions by the Federal agencies, and the laws under which such actions were taken, are described in the Final Environmental Impact Statement (FEIS) for the project, approved on August 10, 2005, in the FHWA Record of Decision (ROD) issued on June 9, 2006, and in other documents in the FHWA project records. The FEIS, ROD, and other project records are available by contacting the FHWA or the Ohio Department of Transportation at the addresses provided above. The FEIS and ROD can be viewed at the Lucasville Public Library, the Scioto County Engineer's offices, the Scioto County Commissioner's office, the Portsmouth Public Library, the New Boston Public Library, the Wheelersburg Public Library, and the South Webster Public Library.

This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, [42 U.S.C. 7401-7671(q)].

3. Land: Section 4(f) of the Department of Transportation Act of 1966 [49 U.S.C. 303]; Landscaping and Scenic Enhancement (Wildflowers), [23 U.S.C. 319].

4. Wildlife: Endangered Species Act [16 U.S.C. 1531-1544 and Section 1536], Fish and Wildlife Coordination Act [16 U.S.C. 661-667(d)], Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Land and Water Conservation Fund (LWCF), [16 U.S.C. 4601-4604]; Safe Drinking Water Act (SDWA), [42 U.S.C. 300(f)-300(j)(6)]; Rivers and Harbors Act of 1899, [33 U.S.C. 401-406]; Wild and Scenic Rivers Act, [16 U.S.C. 1271-1287]; Clean Water Act, [33 U.S.C. 1251-1377 (Section 401, 404, and 319)]; Emergency Wetlands Resources Act, [16 U.S.C. 3921, 3931; 133(b)(11)]; Flood Disaster Protection Act, [42 U.S.C. 4001-4128].

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1).

Issued on: July 27, 2006.
Dennis Decker,
Division Administrator, Columbus, Ohio.

[FR Doc. E6-12553 Filed 8-2-06; 8:45 am]

BILLING CODE 4910-22-P